NATIONAL AERONAUTICS AND SPACE ADMINISTRATION

[Notice (01-026)]

NASA Advisory Council, Minority Business Resource Advisory Committee Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Tuesday, March 20, 2001, 9 a.m. to 4 p.m., and Wednesday, March 21, 2001, 9 a.m. to 12 noon.

ADDRESSES: Johnson Space Center, Houston, TX 77058-3696. Meeting held on Tuesday, March 20, 2001, will be in Building 111, Room 108 and the meeting held on Wednesday, March 21, 2001, will be in Building 1, Room 966.

FOR FURTHER INFORMATION CONTACT: Mr. Ralph C. Thomas III, Code K, National Aeronautics and Space Administration, Room 9K70, 300 E Street, SW., Washington, DC 20546-0001, (202) 358-2088.

SUPPLEMENTARY INFORMATION: The meeting will be open to the public up to the seating capacity of the room. The agenda for the meeting is as follows:

—Overview of NASA

—Small Disadvantaged Business Participation in Major NASA Contracts

—Report on JPL/NASA High-Tech Small Business Conference

—Action Items

—NASA Small Disadvantaged Business (SDB) Program Update

—Report of Chair

—Public Comment

—Report from MBRAC Sub Panels

—Review of NASA's Top 10 Small Business Stories for 2000

—Status of Open Committee Recommendations

It is imperative that the meeting be held on these dates to accommodate the scheduling priorities of the key participants. Visitors will be requested to sign a visitor's register.

Dated: February 13, 2001.
Beth M. McCormick,
Advisory Committee Management Officer, National Aeronautics and Space Administration.

[FR Doc. 01-3968 Filed 2-15-01; 8:45 am]

BILLING CODE 7510-01-P